NUCLEAR REGULATORY COMMISSION

Notice of Error in Draft Environmental Impact Statement for the Construction and Operation of the Proposed Mixed Oxide Fuel Fabrication Facility at the Savannah River Site, South Carolina and Extension of Public Comment Period

AGENCY: Nuclear Regulatory Commission.

ACTION: Notice of error in Draft Environmental Impact Statement; extension of public comment period.

SUMMARY: U.S. Nuclear Regulatory Commission (NRC) noticed in the Federal Register (68 FR 9728; February 28, 2003) the availability of a Draft Environmental Impact Statement (DEIS) on the proposed construction and operation of a mixed oxide (MOX) fuel fabrication facility at the Savannah River Site in South Carolina and the opportunity for stakeholders to provide comment on the DEIS. That the Federal Register notice also provided information of public meetings that the NRC will be hosting on March 25, 26, and 27, 2003, to accept oral and written comments on the DEIS. The U.S. Environmental Protection Agency (EPA) also noticed the filing of the DEIS in the Federal Register (68 FR 9650, February 28, 2003).

Since issuing the DEIS, NRC has identified an error in the DEIS. The error affects the calculation of the 1-year exposure to members of the public following hypothetical accidents at the proposed MOX facility, pit disassembly and conversion facility, and waste solidification building. The risk associated with these potential accidents is still considered to be very small. Correcting the error will not change the estimated low probability that such accidents would ever occur, but correcting the error is expected to substantially reduce these potential impacts.

NRC is revising the calculations of the 1-year public accident impacts and plans to issue errata sheets in early April to stakeholders who were mailed a copy of the DEIS. The NRC will also post the revised information on the MOX website, which is provided below. The NRC plans to discuss this issue at the above noted public meetings.

Extension of public comment period: The NRC is extending the public comment period on the proposed MOX facility DEIS by 30 days. Comments should be submitted by May 14, 2003. Submit written comments to: Michael T. Lesar, Chief, Rules and Directives Branch, Division of Administrative Services, Office of Administration, Mail Stop T-6D59, U.S. Nuclear Regulatory Commission, Washington, DC 20555. Comments will also be accepted by e-mail. Interested parties may e-mail their comments to teh@nrc.gov. Comments will also be accepted by fax at (301) 415-5398, Attention: Tim Harris.

Availability of Documents for Review: The DEIS, and other documents on which the DEIS is based, are available for public review through our electronic reading room: http://www.nrc.gov/reading-rm.html. A selected group of these documents are on the MOX web page: http://www.nrc.gov/materials/fuel-cycle-fac/mox/licensing.html. For those without access to the internet, paper copies of any electronic documents may be obtained for a fee by contacting the NRC's Public Document Room at 1-800-397-4209.

FOR FURTHER INFORMATION CONTACT: For further information regarding this notice, please contact: Tim Harris at (301) 415-6613.

Dated at Rockville, Maryland, this 6th day of March 2003.
For the Nuclear Regulatory Commission,
Lawrence E. Kokajko,
Acting Chief, Environmental and Performance Assessment Branch Division of Waste Management, Office of Nuclear Material Safety and Safeguards.

[FR Doc. 03-6288 Filed 3-14-03; 8:45 am]

BILLING CODE 7590-01-U